FARM CREDIT ADMINISTRATION

12 CFR Part 615

RIN 3052-AC23

Funding and Fiscal Affairs, Loan Policies and Operations, and Funding Operations; Investments in Farmers' Notes

AGENCY: Farm Credit Administration.

ACTION: Proposed rule; reopening of comment period.

SUMMARY: The Farm Credit Administration (FCA, Agency, or we) is reopening the comment period on the proposed rule to amend the Agency's regulations governing investments in Farmers' notes so all interested parties will have more time to respond.

DATES: Please send your comments to the FCA by November 24, 2004.

ADDRESSES: Send us your comments by electronic mail to reg-comm@fca.gov, through the Pending Regulations section of our Web site at http://www.fca.gov, or through the government-wide Web site http://www.regulations.gov. You may also submit your comments in writing to S. Robert Coleman, Director, Regulation and Policy Division, Office of Policy and Analysis, Farm Credit Administration, 1501 Farm Credit Drive, McLean, VA 22102-5090, or by facsimile transmission to (703) 734-5784. You may review copies of all comments we receive in the Office of Policy and Analysis, Farm Credit Administration.

FOR FURTHER INFORMATION CONTACT: Dennis K. Carpenter, Senior Policy Analyst, Office of Policy and Analysis, Farm Credit Administration, McLean, VA 22102-5090, (703) 883-4498, TTY (703) 883-4434; or Richard A. Katz, Senior Attorney, Office of General Counsel, Farm Credit Administration, McLean, VA 22102-5090, (703) 883-4020, TTY (703) 883-2020.

SUPPLEMENTARY INFORMATION: On September 14, 2004, we published a proposed rule in the Federal Register seeking public comment on amendments to regulations governing investments in Farmers' notes. The comment period expired on October 14, 2004. See 69 FR 55362, September 14, 2004. One member of the public has requested that the FCA provide interested parties an additional 30 days to comment. In response to this request, we are reopening the comment period until November 24, 2004, so all interested parties have more time to respond. Separately, the proposed rule contained an incorrect facsimile number. The correct number is (703) 734-5784. The FCA supports public involvement and participation in its regulatory and policy process and invites all interested parties to review and provide comments on the proposed rule.

Dated: October 20, 2004.
Jeanette C. Brinkley,
Secretary, Farm Credit Administration Board.

[FR Doc. 04-23833 Filed 10-22-04; 8:45 am]

BILLING CODE 6705-01-P